ENVIRONMENTAL PROTECTION AGENCY

[FRL-7869-4]

Clean Air Act Operating Permit Program; Petition for Objection to State Operating Permits; Dow Chemical Company

AGENCY: Environmental Protection Agency (EPA).

ACTION: Notice of final order on petition to object to State operating permits.

SUMMARY: The EPA Administrator signed an order, dated December 22, 2004, denying the petition to object to State operating permits issued by the Louisiana Department of Environmental Quality (LDEQ) for the Light Hydrocarbon III and Cellulose plants at the Dow Chemical Company's facilities in Plaquemine, Iberville Parish, Louisiana. Pursuant to section 505(b)(2) of the Clean Air Act (Act), the petitioner may seek judicial review of this petition response in the United States Court of Appeals for the Fifth Circuit. Any petition must be filed within 60 days of the date this notice appears in the Federal Register, pursuant to section 307(d) of the Act.

ADDRESSES: You may review copies of the final order, the petition, and other supporting information at EPA Region 6, 1445 Ross Avenue, Dallas, Texas 75202-2733. If you wish to examine these documents, you should make an appointment at least 24 hours before visiting day. The final order is also available electronically at the following address: http://www.epa.gov/region07/programs/artd/air/title5/petitiondb/petitiondb2002.htm.

FOR FURTHER INFORMATION CONTACT: Ms. Mary Stanton, Air Permits Section, Multimedia Planning and Permitting Division, EPA Region 6, 1445 Ross Avenue, Dallas, Texas 75202-2733, telephone (214) 665-8377, or e-mail at Stanton.Marya@epa.gov.

SUPPLEMENTARY INFORMATION: The Act affords EPA a 45-day period to review, and, as appropriate, object to operating permits proposed by State permitting authorities under Title V of the Act, 42 U.S.C. 7661-7661f. Section 505(b)(2) of the Act authorizes any person to petition the EPA Administrator within 60 days after the expiration of this review period to object to State operating permits if EPA has not objected on its own initiative. Petitions must be based only on objections to the permit that were raised with reasonable specificity during the public comment period provided by the State, unless the petitioner demonstrates that it was impracticable to raise these issues during the comment period or the grounds for the issues arose after this period.

The Louisiana Environmental Action Network (LEAN) submitted a petition requesting that the Administrator object to title V operating permits issued by LDEQ to the Dow Chemical Company, for modifications to its Light Hydrocarbon III and Cellulose Plants at Dow's facility in Plaquemine, Iberville Parish, Louisiana.

The petition maintains that the permits are inconsistent with the Act because:

(1) The emission reduction credits (ERCs) used as offsets are not valid because the underlying emission reductions were required, and not surplus;

(2) The ERCs are not valid because LDEQ improperly concluded that the underlying emission reductions occurred within 10 years of the date the offsets were used;

(3) Dow's application for ERCs was not timely under the requirements of the Louisiana Administrative Code;

(4) LDEQ's Basis For Decision on the ERC application failed to respond to all reasonable public comments;

(5) The permits should have required controls designed to achieve the Lowest Achievable Emission Rate (LAER) because Dow had insufficient offsets to avoid LAER;

(6) Offsets should have been required for 33.34 tons per year of emission increases of volatile organic compounds from emission points C6 ,C7, and LN, and LDEQ was inconsistent in granting those emission increases while also maintaining that the facilities were in compliance with the previously permitted emissions limitations; and

(7) In establishing the baseline for sulfur dioxide emissions for purposes of determining whether the permits constituted a significant modification, LDEQ failed to either use actual emissions over the preceding two years, or make a determination that a different time period was more representative of normal source operation.

On December 22, 2004, the Administrator issued an order denying the petition. The order explains the reasons for the Administrator's decision that the petition does not demonstrate that the permits are not in compliance with the Act.

Dated: January 26, 2005.
Richard E. Greene,
Regional Administrator, Region 6.

[FR Doc. 05-2181 Filed 2-3-05; 8:45 am]

BILLING CODE 6560-50-P